DEPARTMENT OF DEFENSE

Office of the Secretary

[DOD-2007-OS-0123]

Privacy Act of 1974; System of Records

AGENCY: Office of the Secretary, DoD.

ACTION: Notice to Add a System of Records.

SUMMARY: The Office of the Secretary of Defense proposes to add a system of records to its inventory of record systems subject to the Privacy Act of 1974 (5 U.S.C. 552a), as amended.

DATES: The changes will be effective on December 14, 2007 unless comments are received that would result in a contrary determination.

ADDRESSES: Send comments to OSD Privacy Act Coordinator, Freedom of Information Division, Washington Headquarters Services, 1155 Defense Pentagon, Washington, DC 20301-1155.

FOR FURTHER INFORMATION CONTACT: Mr. Dave Henshall, OSD/JS Privacy Act Coordinator, (703) 696-4495.

SUPPLEMENTARY INFORMATION: The Office of the Secretary of Defense notices for systems of records subject to the Privacy Act of 1974 (5 U.S.C. 552a), as amended, have been published in the Federal Register and are available from the address above.

The proposed systems reports, as required by 5 U.S.C. 552a(r) of the Privacy Act of 1974, as amended, were submitted on November 2, 2007, to the House Committee on Government Reform, the Senate Committee on Homeland Security and Governmental Affairs, and the Office of Management and Budget (OMB) pursuant to paragraph 4c of Appendix I to OMB Circular No. A-130, “Federal Agency Responsibilities for Maintaining Records About Individuals,” dated February 8, 1996 (February 20, 1996, 61 FR 6427).

Dated: November 7, 2007.
L.M. Bynum,
Alternate OSD Federal Register Liaison Officer, Department of Defense.

DPR 35

System name:

Defense Injury and Unemployment Compensation System.

System location:

Civilian Personnel Management Services (CPMS) 1400 Key Blvd., Rosslyn, VA 22209-5144.

Categories of individuals covered by the system:

Current and former Department of Defense (DoD) civilian appropriated fund employees. Employees and/or their survivors who have filed a claim for workers' compensation benefits under the Federal Employees' Compensation Act (FECA) by reason of injuries sustained while in the performance of civilian duty or who have filed claims for Unemployment Compensation through state employment security agencies.

Categories of records in the system:

Individual's name, Social Security Number (SSN), date of birth, component, occupation, assignment and duty location information, wages, benefits, entitlement data necessary to injury or unemployment claim management, Department of Labor/Office of Workers' Compensation Programs (DOL/OWCP) claim data, authorization for medical care, related DoD personnel records such as timekeeping and payroll data, reports descriptive of the incident and extent of injury for use in DOL/OWCP adjudication of the claim, initial notification to agency Safety personnel for Occupational Safety and Health Act (OSHA) reporting purposes, and reports related to payment of benefits through State Employment Security Agency (SESA) offices.

Authority for maintenance of the system:

5 U.S.C. 8101, Federal Employee Compensation Act, as amended; 10 U.S.C. 136, Under Secretary of Defense for Personnel and Readiness; Department of Defense Directive 1400.25-M, DoD Civilian Personnel Management System; and E.O. 9397(SSN).

Purpose(s):

For processing Federal Employee Compensation Act claims seeking monetary, medical, and similar benefits for injuries or deaths sustained by civilian employees while performing assigned duties.

Data is collected for incident notification to safety personnel responsible for Occupational Safety and Health Act (OSHA) recording. Safety claim records are used to support DoD management responsibilities under the applicable regulations and to obtain appropriate injury compensation benefits for qualifying employees or their dependents.

Records are maintained for the purpose of auditing the State itemized listings of Unemployment Compensation charges, identifying erroneous charges and requesting credits from the State Employment Security Agencies (SESAs), and tracking the charges to ensure that credits are received from the appropriate State jurisdictions.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To agency employees tasked with management of the Federal Employee Compensation Act claims, for the purpose of billing verification, administration of the agency's responsibilities under Federal Employees Compensation Act, answer questions about the status of the claim, or to consider rehire, retention or other actions the agency may be required to take with regard to the claim.

To the Office of Personnel Management (OPM) and Social Security Administration (SSA) for purposes of ensuring appropriate payment of benefits.

The DoD “Blanket Routine Uses” apply to this system of records.

Policies and practices for storing, retrieving, accessing, retaining, and disposing of records in the system:

Storage:

Electronic storage media.

Retrievability:

Individual's name, Social Security Number (SSN), and/or claim number.

Safeguards:

Records are maintained in a controlled facility. Physical entry is restricted by the use of locks, guards, and is accessible only to authorized personnel. Access to records is limited to person(s) responsible for servicing the record in performance of their official duties and who are properly screened and cleared for a need-to-know. Access to computerized data is restricted by passwords, which are changed periodically according to agency security policy.

Retention and disposal:

Disposition pending (until the National Archives and Records Administration approves retention and disposal schedule).

System manager(s) and address:

Human Resources Specialist, Benefits and Information Systems, Civilian Personnel Management Services (CPMS), Injury and Unemployment Compensation Division, 1400 Key Blvd., Rosslyn, VA 22209-5144.

Notification procedure:

Individuals seeking to determine whether information about themselves is contained in this system should address written inquiries to the Injury Compensation Program Administrator (ICPA) designated by their servicing Human Resources office, or contact the Benefits and Information Systems, Civilian Personnel Management Services (CPMS), Injury Compensation Unemployment Compensation (ICUC) Division, 1400 Key Boulevard, Rosslyn, VA 22209-5144 for assistance in identifying the ICPA.

Requests should be signed, include the individual's full name, Social Security Number (SSN), and address. It should include the State where the claim for Unemployment Compensation was filed and approximate date filed with the State Employment Security Agency.

Record access procedures:

Individuals seeking access to information about them contained in this system of records should address written inquiries to their servicing Human Resources office, or contact the Benefits and Information Systems, Civilian Personnel Management Services (CPMS), Injury Compensation Unemployment Compensation (ICUC) Division, 1400 Key Boulevard, Rosslyn, VA 22209-5144 for assistance in identifying the correct office.

Requests should be signed, include the individual's full name, Social Security Number (SSN), and address. It should include the State where the claim for Unemployment Compensation was filed and approximate date filed with the State Employment Security Agency.

Contesting record procedures:

The OSD rules for accessing records, for contesting contents and appealing initial agency determinations are contained in OSD Administrative Instruction 81; 32 CFR part 311; or may be obtained from the system manager.

Record source categories:

Individual, Department of Defense Personnel System records, and Department of Labor/Office of Workers' Compensation Program claim records.

Exemptions claimed for the system:

None.

[FR Doc. E7-22258 Filed 11-13-07; 8:45 am]

BILLING CODE 5001-06-P